DEPARTMENT OF THE INTERIOR

National Park Service

[NPS-WASO-NAGPRA-NPS0037011; PPWOCRADN0-PCU00RP14.R50000]

Notice of Inventory Completion: Maxey Museum, Whitman College, Walla Walla, WA AGENCY: National Park Service, Interior

ACTION: Notice.

SUMMARY: In accordance with the Native American Graves Protection and Repatriation Act (NAGPRA), the Maxey Museum, Whitman College has completed an inventory of human remains and associated funerary objects and has determined that there is a cultural affiliation between the human remains and associated funerary objects and Indian Tribes or Native Hawaiian organizations in this notice. The human remains and associated funerary objects were removed from Umatilla County, OR.

DATES: Repatriation of the human remains and associated funerary objects in this notice may occur on or after January 4, 2024.

ADDRESSES: Libby Miller, Maxey Museum, Whitman College, 345 Boyer Avenue, Walla Walla, WA 99362, telephone: (509) 876-7327, email millerem@whitman.edu.

SUPPLEMENTARY INFORMATION: This notice is published as part of the National Park Service's administrative responsibilities under NAGPRA. The determinations in this notice are the sole responsibility of the Maxey Museum, Whitman College. The National Park Service is not responsible for the determinations in this notice. Additional information on the determinations in this notice, including the results of consultation, can be found in the inventory or related records held by the Maxey Museum, Whitman College.

Description

On April 9, 1930, human remains representing, at minimum, one individual were removed from Umatilla County, OR, by Co. Bunnell, who donated them to Whitman College, where they were accessioned by Howard Brode, curator of the Museum. The four associated funerary objects are stone implements.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, historical, and expert opinion.

Determinations

Pursuant to NAGPRA and its implementing regulations, and after consultation with the appropriate Indian Tribes and Native Hawaiian organizations, the Maxey Museum, Whitman College has determined that:

• The human remains described in this notice represent the physical remains of one individual of Native American ancestry.

• The four objects described in this notice are reasonably believed to have been placed with or near individual human remains at the time of death or later as part of the death rite or ceremony.

• There is a relationship of shared group identity that can be reasonably traced between the human remains and associated funerary objects described in this notice and the Confederated Tribes of the Umatilla Indian Reservation.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 4, 2024. If competing requests for repatriation are received, the Maxey Museum, Whitman College must determine the most appropriate requestor prior to repatriation. Requests for joint repatriation of the human remains and associated funerary objects are considered a single request and not competing requests. The Maxey Museum, Whitman College is responsible for sending a copy of this notice to the Indian Tribe identified in this notice.

Authority: Native American Graves Protection and Repatriation Act, 25 U.S.C. 3003, and the implementing regulations, 43 CFR 10.9, 10.10, and 10.14.

Dated: November 28, 2023.
Melanie O'Brien,
Manager, National NAGPRA Program.

[FR Doc. 2023-26616 Filed 12-4-23; 8:45 am]

BILLING CODE 4312-52-P